POSTAL SERVICE

39 CFR Part 20

International Mailing Services: Mailing Services Product and Price Changes—CPI

AGENCY: Postal Service™.

ACTION: Final rule.

SUMMARY: On October 17, 2018, the Postal Service published proposed product and price changes to reflect a notice of price adjustments filed with the Postal Regulatory Commission (PRC). The PRC found that price adjustments contained in the Postal Service's notice could go into effect on January 27, 2019. The Postal Service has revised Notice 123, Price List to reflect the new prices and Mailing Standards of the United States Postal Service, International Mail Manual (IMM®) to reflect the product changes.

DATES: Effective February 11, 2019.

FOR FURTHER INFORMATION CONTACT: Paula Rabkin at 202-268-2537.

SUPPLEMENTARY INFORMATION:

I. Proposed Rule and Response

On October 10, 2018, the Postal Service filed a notice with the PRC in Docket No. R2019-1 of mailing services price adjustments, effective on January 27, 2019. On October 27, 2018, the USPS® published a notice of proposed product and price changes in the Federal Register entitled “International Mailing Services: Proposed Product and Price Changes—CPI” (83 FR 52351). The notice included price changes that the Postal Service would adopt for products and services covered by Mailing Standards of the United States Postal Service, International Mail Manual (IMM®) and publish in Notice 123, Price List, on Postal Explorer® at https://pe.usps.com. The Postal Service received no comments.

By notice filed on October 10, 2018, in PRC Docket No. MC2019-4, the Postal Service proposed to update country names throughout mailing standards, changing Great Britain and Northern Ireland to United Kingdom of Great Britain and Northern Ireland and changing Swaziland to Eswatini.

In its proposed rule, the Postal Service also took notice that on October 10, 2018, we had filed a notice with the PRC in Docket No. MC2019-3. In that filing we proposed a change in the maximum weight limit for First-Class Mail International (FCMI) large envelopes (flats) to 15.994 ounces, in lieu of the current 64 ounce limit. This change would more closely align the Postal Service's definition of FCMI large envelopes (flats) with the Universal Postal Union Convention's definition, which allows a maximum weight of 500 grams (17.6 ounces) for flat-shaped letter post items. A mailpiece weighing 16 ounces or more that is presented as an FCMI large envelope (flat) would be charged the applicable First-Class Package International Service® price. Alternatively, the mailer could elect to use another class of mail such as Priority Mail Express International® or Priority Mail International®, if the mailpiece meets the requirements for those mail classes.

II. Decision of the Postal Regulatory Commission

As stated in the PRC's Order No. 4875, issued on November 13, 2018, the PRC found that the prices in the Postal Service's notice in Docket No. R2019-1 may go into effect on January 27, 2019. The new prices are now posted in Notice 123, on Postal Explorer at https://pe.usps.com. The Postal Service published notice of the new prices in the article titled “International Mail: Changes to Pricing for International Mailing Services,” in Postal Bulletin 22509 (12-20-18), page 48, available at http://about.usps.com/postal-bulletin/2018/pb22509/pb22509.pdf.

Also, as stated in the PRC's Order No. 4918, the Commission approved the name changes for the United Kingdom of Great Britain, Northern Ireland, and Eswatini. These changes are also posted in the January 27, 2019, revision of the IMM on Postal Explorer at https://pe.usps.com. The Postal Service published notice of both of these changes in the Postal Bulletin on December 20, 2018. See “IMM Revision: Great Britain and Northern Ireland Name Change,” Postal Bulletin 22509 (12-20-18), pages 17-19, available at http://about.usps.com/postal-bulletin/2018/pb22509/pb22509.pdf; see also “IMM Revision: Swaziland Name Change,” Postal Bulletin 22509 (12-20-18), pages 20-21, available at http://about.usps.com/postal-bulletin/2018/pb22509/pb22509.pdf.

Because the proposed change to FCMI large envelopes (flats) upper weight limit that was the subject of Docket No. MC2019-3 was pending at the time the PRC was scheduled to complete its review in Docket No. R2019-1, the PRC issued an interim order in Docket No. R2019-1. That interim order required the Postal Service to revise its filing in the R2019-1 docket so that the Postal Service's proposed changes in the R2019-1 docket would not include the proposed revision in the FCMI large envelopes (flats) maximum weight limitation. See PRC Order No. 4859, Interim Order Relating to Outbound Single-Piece First-Class Mail International Flats, Docket No. R2019-1, October 19, 2018. The PRC subsequently approved the updated weight limitation for FCMI large envelopes (flats) in Order No. 4932, issued December 19, 2018. The Postal Service will announce an implementation date for the revised FCMI large envelopes (flats) maximum weight limitation sometime after the January 27, 2019, price change.

List of Subjects in 39 CFR Part 20

Foreign relations, International postal services.

Accordingly, for the reasons stated, the Postal Service has adopted the following changes to Mailing Standards of the United States Postal Service, International Mail Manual (IMM®), which is incorporated by reference in the Code of Federal Regulations in accordance with 39 CFR 20.1, along with associated changes to Notice 123, Price List.

PART 20—[AMENDED]

1. The authority citation for 39 CFR Part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

Mailing Standards of the United States Postal Service, International Mail Manual (IMM)

* * * * *

[Throughout the IMM, change all references to “Great Britain and Northern Ireland” to “United Kingdom of Great Britain and Northern Ireland” or to “United Kingdom” where the shorter form is appropriate and place them in the correct alphabetical order in lists. Revised sections include 213.5, 292.45, and 293.45; the Index of Countries and Localities; the Country Price Groups and Weight Limits; and the Individual Country Listings, plus minor applicable revisions throughout the IMM.]

[Throughout the IMM, change all references to “Swaziland” to “Eswatini” and place them in the correct alphabetical order in lists. Revised sections include sections 213.5, 292.45a, and 322.2; the Index of Countries and Localities; the Country Price Groups and Weight Limits; and the Individual Country Listings.]

Ruth Stevenson,
Attorney, Federal Compliance.

[FR Doc. 2019-01669 Filed 2-8-19; 8:45 am]

BILLING CODE 7710-12-P